DEPARTMENT OF THE INTERIOR

Bureau of Reclamation

Red River Valley Water Supply Project, North Dakota

AGENCY: Bureau of Reclamation, Interior.

ACTION: Notice for extension of the public comment period for the Red River Valley Water Supply Project Draft Environmental Impact Statement (DEIS).

SUMMARY: The Bureau of Reclamation is announcing an additional 15-day extension of the public comment period for the Red River Valley Water Supply Project DEIS. The originally announced, extended comment period ends on March 30, 2006, but it has been extended until April 14, 2006. The original notice of availability of the DEIS, notice of public hearings, and additional information on the Red River Valley Water Supply Project were published in the Federal Register on December 30, 2005 (70 FR 250, 77425-77427).

DATES: Comments on the DEIS should be postmarked by April 14, 2006.

ADDRESSES: Send comments on the DEIS to Red River Valley Water Supply Project, Attn. Signe Snortland, Bureau of Reclamation, Dakotas Area Office, P.O. Box 1017, Bismarck, ND 58502-1017.

FOR FURTHER INFORMATION CONTACT: Signe Snortland, Dakotas Area Office, Bureau of Reclamation, telephone: (701) 250-4242 extension 3619, or Fax to (701) 250-4326.

SUPPLEMENTARY INFORMATION: To be most helpful to Reclamation, comments should be received on or before the close of the formal comment period, April 14, 2006. Comments received after April 14, 2006 will be considered to the extent possible in the development of the Final EIS. Reclamation's practice is to make comments, including names and home addresses of respondents, available for public review. Individual respondents may request that we withhold their home address from public disclosure, which we will honor to the extent allowable by law. There may be other circumstances in which we would withhold a respondent's identity from public disclosure, as allowable by law. If you wish us to withhold your name and/or address, you must state this prominently at the beginning of your comment. We will make all submissions from organizations or businesses, and from individuals identifying themselves as representatives or officials of organizations or businesses, available for public disclosure in their entirety.

Dated: March 23, 2006.
Gary W. Campbell,
Acting Regional Director, Great Plains Region, Bureau of Reclamation.

[FR Doc. E6-5176 Filed 4-7-06; 8:45 am]

BILLING CODE 4310-MN-P